DEPARTMENT OF LABOR

Mine Safety and Health Administration

[OMB Control No. 1219-0025]

Proposed Extension of Information Collection: Applications for Permits To Fire More than 20 Boreholes and for Use of Nonpermissible Blasting Units, Explosives, and Shot-Firing Units; and Posting Notices of Misfires

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Applications for Permits to Fire More than 20 Boreholes and For Use of Nonpermissible Blasting Units, Explosives, and Shot-firing Units; and Posting Notices of Misfires”.

DATES: All comments must be received on or before September 2, 2025.

ADDRESSES: Comments concerning the information collection requirements of this notice may be sent by any of the methods listed below. Please note that late comments received after the deadline will not be considered.

• Federal E-Rulemaking Portal: https://www.regulations.gov. Follow the on-line instructions for submitting comments for docket number MSHA-2025-0035.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: Jessica Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

The Paperwork Reduction Act of 1995 (PRA) governs paperwork burdens imposed by Federal agencies on the public for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill the statutory mandates to promote miners' health and safety, MSHA requires information collected under the information collection request (ICR) titled “Applications for Permits to Fire more than 20 Boreholes and for Use of Nonpermissible Blasting Units, Explosives, and Shot-Firing Units; and Posting Notices of Misfires.” The information collection is intended to provide necessary information for MSHA to issue permits to mine operators for firing of more than 20 boreholes in a round, for the use of nonpermissible explosives and shot-firing units, and for necessary posting of misfire notices. The permits inform mine management and miners of the steps that need to be taken to protect the safety of any person exposed to such blasting while using nonpermissible items.

Under section 313 of the Mine Act, 30 U.S.C. 873, any explosives used in underground coal mines must be permissible. The Mine Act also provides that under safeguards as the Secretary may prescribe, the Secretary may permit mine operators to fire more than 20 shots and allow the use of nonpermissible explosives and shot-firing units in sinking shafts and slopes from the surface in rock. In the case of a misfire, mines must post notices at the entrance of the areas where the misfire occurred.

Burden costs associated with the ICR include:

1. Applying for permits to fire more than 20 boreholes or for use of nonpermissible blasting units, explosives, and shot-firing units; and

2. Posting of misfire notices.

Details of the authorities for these costs are described below.

1. Applying for Permits for Firing More Than 20 Boreholes and for Use of Nonpermissible Blasting Units, Explosives, and Shot-Firing Units

Under 30 CFR 75.1321(a), applications for permits for firing more than 20 boreholes in a round and for the use of nonpermissible blasting units must be submitted, by the mine operator, in writing to the District Manager for the district in which the mine is located and must contain the following information:

(1) The name and address of the mine;

(2) The active workings in the mine affected by the permit and the approximate number of boreholes to be fired;

(3) The period of time during which the permit will apply;

(4) The nature of the development or construction for which they will be used, e.g., overcasts, undercasts, track grading, roof brushing or boom holes;

(5) A plan, proposed by the mine operator designed to protect miners in the mine from the hazards of methane and other explosive gases during each multiple shot, e.g., changes in the mine ventilation system, provisions for auxiliary ventilation and any other safeguards necessary to minimize such hazards;

(6) A statement of the specific hazards anticipated by the mine operator in blasting for overcasts, undercasts, track grading, brushing of roof, boom holes or other unusual blasting situations such as coalbeds of abnormal thickness; and

(7) The method to be employed to avoid the dangers anticipated during development or construction which will ensure the protection of life and the prevention of injuries to the miners exposed to such underground blasting.

Under 30 CFR 75.1321(b), District Managers may permit the firing of more than 20 boreholes of permissible explosives in a round where they have determined that it is necessary to reduce the overall hazard to which miners are exposed during underground blasting. The District Managers may also permit the use of nonpermissible blasting units if they find that a permissible blasting unit does not have adequate blasting capacity and that the use of such permissible units will create development or construction hazards such as: exposure to disturbed roof in an adjacent cavity while scaling and supporting the remaining roof prior to wiring a new series of boreholes; exposure to underburden boreholes where prior rounds have removed the burden adjacent to a remaining borehole; exposure to an unsupported roof while redrilling large fragmented roof rock following the loss of predrilled boreholes during earlier blasting operations; or any other hazard created by the use of permissible blasting units during underground development or construction.

Under 30 CFR 75.1321(c), permits must be issued on a mine-by-mine basis for periods of time to be specified by the District Manager.

Under 30 CFR 75.1321(d), permits must specify and include as a condition of their use, any safeguards, in addition to those proposed by the mine operator, which the District Manager issuing such permits has determined will be required to ensure the welfare of the miners employed in the mine at the time of the blasting permitted.

Under 30 CFR 77.1909-1, where the District Manager has determined that the use of nonpermissible explosives and nonpermissible shot-firing units will not pose a hazard to any person during the development of a slope or shaft, the District Manager may, after written application by the operator, approve the use of such explosives and shot-firing units and issue a permit for the use of such explosives and devices setting forth the safeguards to be employed by the operator to protect the health and safety of any person exposed to such blasting.

2. Posting of Misfire Notices

Under 30 CFR 75.1327(a), when misfires occur, mine operators must ensure that only work by a qualified person to dispose of misfires and other work necessary to protect persons must be done in the affected area.

Under 30 CFR 75.1327(b), when a misfire cannot be disposed of, mine operators must ensure that:

(1) A qualified person must post each accessible entrance to the area affected by the hazard of the misfire with a warning at a conspicuous location to prohibit entry; and

(2) The misfire must be immediately reported to mine management.

II. Desired Focus of Comments

MSHA is soliciting comments concerning the proposed information collection titled “Applications for Permits to Fire More than 20 Boreholes and For Use of Nonpermissible Blasting Units, Explosives, and Shot-firing Units; and Posting Notices of Misfires”. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The ICR will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the ICR may be directed to the person listed in the FOR FURTHER INFORMATION section of this notice.

III. Current Actions

This ICR concerns provisions for Applications for Permits to Fire More than 20 Boreholes and For Use of Nonpermissible Blasting Units, Explosives, and Shot-firing Units; and Posting Notices of Misfires. MSHA has updated the data with respect to the number of respondents, responses, time burden, and burden costs supporting this ICR from the previous ICR.

Type of Review: Extension, without change, of a currently approved collection.

Agency: Mine Safety and Health Administration.

OMB Number: 1219-0025.

Affected Public: Business or other for-profit.

Number of Annual Respondents: 33.

Frequency: Annually.

Number of Annual Responses: 34.

Annual Time Burden: 33 hours.

Annual Other Burden Costs: $170.

Comments submitted in response to this notice will be summarized and included in the request for Office of Management and Budget approval of the proposed ICR; they will become a matter of public record and be available at https://www.reginfo.gov.

Jessica Senk,
Certifying Officer, Mine Safety and Health Administration.

[FR Doc. 2025-12436 Filed 7-2-25; 8:45 am]

BILLING CODE 4510-43-P